DEPARTMENT OF HOUSING AND URBAN DEVELOPMENT

[Docket No. FR-5892-N-01]

Notice of Intent To Prepare Draft Environmental Impact Statement (EIS) for the Rebuild by Design Hudson River Project: Resist, Delay, Store, Discharge in the City of Hoboken, Township of Weehawken and City of Jersey City, New Jersey

AGENCY: Office of the Assistant Secretary for Community Planning and Development, HUD.

ACTION: Notice of intent to prepare an EIS.

SUMMARY: This provides notice that the New Jersey Department of Environmental Protection (NJDEP) intends to prepare an Environmental Impact Statement (EIS) for the Rebuild by Design Hudson River Project: Resist, Delay, Store, Discharge (the Project) in the City of Hoboken, Township of Weehawken, and City of Jersey City, New Jersey. The Proposed Project was developed as a concept through the Hurricane Sandy Rebuilding Task Force's Rebuild by Design (RBD) program, a design competition to promote the development of resiliency in the Sandy-affected region.

The Proposed Project will consist of a four-part comprehensive strategy, including (1) hard infrastructure and soft landscape for coastal defense (Resist); (2) policy recommendations, guidelines and urban infrastructure to slow storm water runoff (Delay); (3) green and/or grey infrastructure improvements to allow for greater storage of excess rainwater (Store); and (4) water pumps and alternative routes to support drainage (Discharge). The proposed project will occur throughout the City of Hoboken, with linkages to the adjoining communities in the Township of Weehawken and City of Jersey City.

The Proposed Project was selected by HUD through the RBD competition, and HUD Community Development Block Grant-Disaster Recovery (CDBG-DR) funds have been allocated to it. CDBG-DR funding requires compliance with the National Environmental Policy Act (NEPA) as stated in HUD's regulations as outlined in 24 CFR part 58. The Project is also subject to the Council of Environmental Quality (CEQ) NEPA regulations at 40 CFR parts 1500-1508. HUD has further outlined the project's environmental review requirements in a Federal Register notice published on October 16, 2014 (79 FR 62182).

The State of New Jersey, acting through the New Jersey Department of Community Affairs, is the responsible entity that has assumed environmental responsibilities for the Sandy CDBG-DR programs in accordance with 24 CFR 58.1(b)(1). The New Jersey Department of Community Affairs has designated NJDEP to assist with the environmental review. NJDEP will prepare the EIS in accordance with HUD's procedures for NEPA found at 24 CFR part 58. This Notice of Intent to prepare an EIS (as defined at 40 CFR 1508.22) is in accordance with CEQ regulations, and represents the beginning of the public scoping process as outlined in 40 CFR 1501.7. As part of the public scoping process, a Draft Scope of Work will be prepared and submitted for public comment. The Draft Scope of Work will outline in detail the proposed Project actions as well as a description of areas of impact to be studied in the Draft EIS. The Draft Scope of Work will be finalized to reflect substantive comments received during the scoping comment period. After this is completed, the Draft EIS will be prepared and ultimately submitted for public comment. The Draft EIS will be circulated to the general public, as well as groups and government agencies that have been identified as having particular interest in the Proposed Project. A Notice of Availability will be published in the Federal Register and local media outlets at that time in accordance with HUD and CEQ regulations.

FOR FURTHER INFORMATION CONTACT: The New Jersey Department of Environmental Protection (NJDEP) by email to rbd-hudsonriver@dep.nj.gov or mail to David Rosenblatt, Director, Office of Flood Hazard Risk Reduction Measures, 501 East State Street, Mail Code 501-01A, P.O. Box 420, Trenton, NJ 08625-0420.

SUPPLEMENTARY INFORMATION:

A. Project Background

The project area, comprising the entire city of Hoboken, and parts of Weehawken and Jersey City, is vulnerable to flooding from coastal storm surge events. Superstorm Sandy exposed the vulnerabilities within the project area by flooding over two thirds of the City of Hoboken's low-lying areas. The project area is also susceptible to flooding from high-intensity and long-duration rainfall events. Rainfall-induced flooding is more common within the project area and happens more frequently than coastal storm surge flooding. However, the effects of rainfall flooding on property damage are considerably less than from coastal storm surge flooding. The entire project area is serviced by a combined storm-sewer system that collects sewer flow from existing buildings and combines it with storm water runoff during rainfall events. This combined system does not have the capacity to treat the increased volume created during intense storm events, resulting in sewage backups in homes and onto city streets as well as the discharge of raw sewage into the Hudson River. Were Sandy to have been a substantial rainfall event as well as a storm surge event, Hoboken's past history of flooding during heavy rainfall events indicates that the storm could have further increased flooding levels and property damages.

HUD launched the RBD competition in the summer of 2013 (July 29, 2013, 78 FR 45551) to develop ideas to improve physical, ecological, economic, and social resilience in regions affected by Superstorm Sandy. The competition sought to promote innovation by developing flexible solutions that would increase regional resilience. The Proposed Project was one of the competition's six winning concepts; it was developed with the goal of reducing frequent flooding due to storm surge, high tide, and heavy rainfall. HUD awarded $230 million to the State of New Jersey for the Project in the municipalities of Hoboken, Weehawken, and Jersey City.

B. Project Description

The Proposed Project takes a multi-faceted approach intended to address flooding from both major storm surges and high tides as well as from heavy rainfall events. The Proposed Project will occur throughout the City of Hoboken, and will extend into Weehawken and Jersey City, with the following approximate boundaries: The Hudson River to the east; Baldwin Avenue (in Weehawken) to the north; the Palisades to the west; and 18th Street, Washington Boulevard and 14th Street (in Jersey City) to the south.

The project's comprehensive approach to resilience consists of four integrated components:

1. Resist: a combination of hard infrastructure (such as bulkheads, floodwalls and seawalls) and soft landscaping features (such as berms and/or levees which could be used as parks) that act as barriers along the coast during exceptionally high tide and/or storm surge events;

2. Delay: Policy recommendations, guidelines and urban green infrastructure to slow stormwater runoff;

3. Store: Green and grey infrastructure improvements, such as bioretention basins, swales, and green roofs, that slow down and capture stormwater, and which will complement the efforts of the City of Hoboken's existing Green Infrastructure Strategic Plan; and

4. Discharge: Enhancements to Hoboken's existing stormwater management system, including the identification and upgrading of existing stormwater/sewer lines, outfalls and pumping stations.

C. Project Alternatives

The EIS will examine three build alternatives, as well as a No Action Alternative. Each of the three build alternatives will include elements of all four strategic project components: Resist, Delay, Store and Discharge. The three build alternatives vary primarily by the Resist infrastructure's alignment and termination points. The possible Resist alignments include: Along the waterfront, in the water (in the Hudson River), and upland. The waterfront is defined as along the existing walkway/esplanade that runs along the eastern edge of Jersey City, City of Hoboken and Township of Weehawken. The upland portion represents areas landward of the walkway/esplanade. The Resist structures will consist of a combination of multi-purpose levees, floodwalls and other features that will reduce the flood risk within the project area from future coastal storm surge events. In all three build alternatives, the Delay, Store, and Discharge, components will be located on the landward side of the Resist infrastructure and may consist of a combination of green infrastructure (bioswales, storage basins and others) and grey infrastructure (pumps, pipes and others).

Alternative 1 will analyze a Resist alignment that is constructed along a combination of in-water, waterfront, and upland locations and terminates at appropriate locations upland or on the waterfront. Alternative 2 will analyze a Resist alignment constructed primarily along the waterfront with termination points at appropriate upland or waterfront locations. Alternative 3 will analyze a Resist alignment primarily constructed upland with termination points located upland. The No Action Alternative, which represents no improvements, will also be evaluated as part of the EIS. The alternatives analysis will consist of a comparison of the four alternatives' impacts on the environment pursuant to 24 CFR part 58, as well as how well each alternative meets the Project's Purpose and Need. This process, which will be described in detail in the EIS, will lead to the designation of a Preferred Alternative.

D. Scoping

A public EIS Scoping meeting will be held on September 24, 2015, from 7:00 until 9:00 p.m. at the Hoboken Multi-Service Center, located at 124 Grand Street, Hoboken, NJ 07030. The public meeting facility is handicapped accessible to the mobility-impaired. Interpreter services will be made available for persons who are hearing or visually impaired, upon advance request. Additionally, interpreter services will also be made available for persons with Limited English Proficiency through a language access service. The EIS scoping meeting will provide an opportunity for the public to learn more about the proposed Project, as well as provide input on the EIS and the NEPA process. During the meeting, an overview of the Project will be provided as well as details on the early concept development. The public meeting will also provide an opportunity for the public to provide comment on the Project's proposed scope of work. A Draft Scope of Work document will be made available to the public for review and comment at the scoping meeting. An electronic version of the Draft Scope of Work will be available no later than September 8, 2015 at http://www.rbd-hudsonriver.nj.gov. Comments received during the scoping meeting or via email rbd-hudsonriver@dep.nj.gov or mail to David Rosenblatt, Director, Office of Flood Hazard Risk Reduction Measures, 501 East State Street, Mail Code 501-01A, P.O. Box 420, Trenton, NJ 08625-0420 by October 9, 2015 (within 15 days of the scoping meeting) will be considered for review.

E. Probable Environmental Effects

The following areas have been identified for discussion in the EIS: Natural resources, including floodplain management, wetland protection, and threatened and endangered species; coastal zone management; sole source aquifers; wild and scenic rivers; farmland protection; explosive and flammable operations; airport hazards and runway clear zones; socioeconomics; environmental justice; land use; traffic circulation; air quality; noise; vibration; hazardous waste; cultural resources, including historic architectural and archaeological resources; infrastructure; utilities; and cumulative impacts.

F. Lead Agency

In accordance with HUD regulations at 24 CFR part 58, the New Jersey Department of Community Affairs has designated NJDEP to assist with the environmental review and preparation of the EIS. Questions may be directed to the individual named in this notice under the heading FOR FURTHER INFORMATION CONTACT.

Dated: August 31, 2015.
Harriet Tregoning,
Principal Deputy Assistant, Secretary for Community Planning and Development.

[FR Doc. 2015-22021 Filed 9-3-15; 8:45 am]

BILLING CODE 4210-67-P